DEPARTMENT OF ENERGY

Federal Energy Regulatory Commission

[Docket No. AD21-15-000]

Joint Federal-State Task Force on Electric Transmission; Notice Inviting Post-Meeting Comments

On February 16, 2022, the Joint Federal-State Task Force on Electric Transmission convened for a public meeting.

All interested persons are invited to file post-meeting comments to address issues raised during the meeting and identified in the Agenda issued February 2, 2022. For reference, questions asked by the meeting moderator are included below. Comments must be submitted on or before 30 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2021).

For more information about this Notice, please contact:

Michael Cackoski (Technical Information), Office of Energy Policy and Innovation, (202) 502-6169, Michael.Cackoski@ferc.gov.

Gretchen Kershaw (Legal Information), Office of the General Counsel, (202) 502-8213, Gretchen.Kershaw@ferc.gov.

Dated: March 2, 2022.
Debbie-Anne A. Reese,
Deputy Secretary.

Topic 1: Discussion of Specific Categories and Types of Transmission Benefits That Transmission Providers Should Consider for the Purposes of Transmission Planning and Cost Allocation

• The three specific categories/types of transmission facilities considered for the purposes of transmission planning and cost allocation are reliability, economics, and public policy. Can and should these three categories and types of transmission that are considered for the purposes of transmission planning and cost allocation be expanded or changed? If so, what specific categories or types of benefits should be considered for the purposes of allocating the cost of transmission to ratepayers?

• Are the existing three categories of transmission being adequately considered or can they be improved upon—either separately or together—and if so how?

• Are there any specific benefits being considered by transmission providers today that should be more widely adopted by other transmission providers? Are certain benefits unique to specific regions?

• How should certainty of benefits be addressed? For example, should benefits be quantifiable? What tools are available or should be developed to account for uncertainty?

Topic 2: Discussion of Cost Allocation Principles, Methodologies, and Decision Processes for the Purposes of Transmission Planning and Cost Allocation

• Are current cost allocation methodologies used by transmission providers allocating costs roughly commensurate with estimated benefits, and if not, how should this be improved?

• Under what set of benefits—both existing and expanded—would states be amenable to bearing the costs of transmission that is expected to deliver those estimated benefits to ratepayers?

• Is there sufficient opportunity for stakeholders, including states, to collaborate in the development and approval of cost allocation methodologies to build consensus among and increase buy-in from stakeholders within a transmission planning region, and if not, how can this be improved?

[FR Doc. 2022-04874 Filed 3-7-22; 8:45 am]

BILLING CODE 6717-01-P